DEPARTMENT OF THE INTERIOR

Fish and Wildlife Service

[FWS-R8-ES-2019-N150; FXES11140800000-201-FF08EVEN00]

Draft Environmental Assessment and Draft Coastal Region Conservation Program Multiple Species Habitat Conservation Plan; Central and Southern California

AGENCY: Fish and Wildlife Service, Interior.

ACTION: Notice of availability; request for comments.

SUMMARY: We, the U.S. Fish and Wildlife Service, have received an application for a permit for take of endangered and threatened species that is incidental to, and not the purpose of, carrying out otherwise lawful activities. With some exceptions, the Endangered Species Act and its implementing regulations as applicable to the species at issue prohibit take of endangered and threatened species unless a Federal permit allows such activity. We invite comments on this application which we will take into consideration before issuing a permit.

DATES: We will receive public comments on the draft Habitat Conservation Plan and draft Environmental Assessment until August 3, 2020.

ADDRESSES:

Obtaining Documents: You may download a copy of the draft Habitat Conservation Plan and draft Environmental Assessment at http://www.fws.gov/ventura/ or you may request copies of the documents by U.S. mail (below) or by phone (see FOR FURTHER INFORMATION CONTACT).

Submitting Written Comments: Please send your written comments using one of the following methods:

• U.S. mail: Stephen P. Henry, Field Supervisor, Ventura Fish and Wildlife Office, U.S. Fish and Wildlife Service, 2493 Portola Road, Suite B, Ventura, CA 93003.

• Email: chris_dellith@fws.gov.

FOR FURTHER INFORMATION CONTACT: Chris Dellith, Senior Biologist, by phone at 805-677-3308, email (see ADDRESSES), or via the Federal Relay Service at 1-800-877-8339 for TTY assistance.

SUPPLEMENTARY INFORMATION: Southern California Gas Company (applicant) has applied to the U.S. Fish and Wildlife Service (Service) for an incidental take permit (ITP) under section 10(a)(1)(B) of the Endangered Species Act of 1973, as amended (ESA; 16 U.S.C. 1531 et seq.). The applicant is requesting an ITP with a 30-year term, for incidental take of 19 wildlife species likely to result from implementation of activities covered by the applicant's Habitat Conservation Plan, and seeking assurances for 22 plant species. The covered species are indicated in the table below. Pursuant to the National Environmental Policy Act of 1969, as amended (NEPA; 42 U.S.C. 4321 et seq.), we advise the public of the availability of the proposed Habitat Conservation Plan and our draft Environmental Assessment.

Common name | Scientific name | Federal status * | State status **
Invertebrates (3):
Delhi sands flower-loving fly | Rhaphiomidas terminatus abdominalis | E |
El Segundo blue butterfly | Euphilotes battoides allyni | E |
Morro shoulderband (banded dune) snail | Helminthoglypta walkeriana | E |
Fish (1):
Santa Ana sucker | Catostomus santaanae | T |
Amphibians (4):
Arroyo toad | Anaxyrus californicus | E | SSC
California red-legged frog | Rana draytonii | T | SSC
California tiger salamander | Ambystoma californiense | E | T
Mountain yellow-legged frog | Rana muscosa | E | E
Reptiles (2):
Southern rubber boa | Charina bottae umbratical |  | T
Southwestern pond turtle | Emys marmorata pallida |  | SSC
Birds (6):
Belding's savannah sparrow | Passerculus sandwichensis beldingi |  | E
Burrowing owl | Athene cunicularia | BCC | SSC
Coastal California gnatcatcher | Polioptila californica californica | T | SSC
Least Bell's vireo | Vireo bellii pusillus | E | E
Southwestern willow flycatcher | Empidonax traillii extimus | E | E
Western yellow-billed cuckoo | Coccyzus americanus occidentalis | T/BCC | E
Mammals (3):
San Bernardino kangaroo rat | Dipodomys merriami parvus | E | SSC
San Joaquin kit fox | Vulpes macrotis mutica | E | T
Stephens' kangaroo rat | Dipodomys stephensi | E | T
Plants (22):
Braunton's milk-vetch | Astragalus brauntonii | E |
California seablite | Suaeda californica | E |
Chorro Creek bog thistle | Cirsium fontinale var. obispoense | E | E
Conejo dudleya | Dudleya abramsii spp. parva | T |
Gambel's water cress | Nasturtium gambelii | E | T
Gaviota tarplant | Deinandra increscens ssp. villosa | E | E
Indian Knob mountainbalm | Eriodictyon altissimum | E | E
Lompoc yerba santa | Eriodictyon capitatum | E | R
Lyon's pentachaeta | Pentachaeta lyonia | E | E
Marcescent dudleya | Dudleya cymosa ssp. marcescens | T | R
Morro manzanita | Arctostaphylos morroensis | T |
Nevin's barberry | Berberis nevinii | E | E
Nipomo Mesa lupine | Lupinus nipomensis | E | E
Pismo clarkia | Clarkia speciosa ssp. immaculata | E | R
San Fernando Valley spineflower | Chorizanthe parryi var. Fernandina |  | E
Santa Ana River woollystar | Eriastrum densifolium ssp. sanctorum | E | E
Santa Monica Mountains dudleya | Dudleya cymosa ssp. ovatifolia | T |
Seaside bird's beak | Cordylanthus rigidus ssp. littoralis |  | E
Slender-horned spineflower | Dodecahema leptoceras | E | E
Vandenberg monkey flower | Diplacus vandenbergensis | E |
Ventura Marsh milk-vetch | Astragalus pycnostachyus var. lanosissimus | E | E
Verity's dudleya | Dudleya verity | T |
* Federal Status: Endangered (E); Threatened (T); Bird of Conservation Concern (BCC).
** State Status: Species of Special Concern (SSC); Threatened (T); Endangered (E); Rare (R).
*** Critical Habitat: Not applicable (N/A); No Critical Habitat Designated or Proposed (NCH).

Background

Section 9 of the ESA prohibits take of fish and wildlife species listed as endangered (16 U.S.C. 1538). By regulation, this take prohibition also applies to certain species listed as threatened. (50 CFR 17.31(a)). Under section 10(a)(1)(B) of the ESA (16 U.S.C. 1539(a)(1)(B)), we may issue permits to authorize take of listed fish and wildlife species that is incidental to, and not the purpose of, carrying out an otherwise lawful activity. Regulations governing permits for listed fish and wildlife species are set forth in 50 CFR parts 17.22 and 17.32.

The National Environmental Policy Act (NEPA; 42 U.S.C. 4321 et seq.) requires Federal agencies to analyze their proposed actions to determine whether the actions may significantly affect the human environment. In these NEPA analyses, the Federal agency will identify direct, indirect, and cumulative effects, as well as possible mitigation for effects on environmental resources that could occur with implementation of the proposed action and alternatives.

Public Review

If you wish to comment on the draft HCP and draft EA, you may submit comments by one of the methods in ADDRESSES.

Any comments we receive will become part of the decision record associated with this action. Before including your address, phone number, email address, or other personal identifying information in your comment, please be aware that your entire comment—including your personal identifying information—may be made publicly available at any time. While you can request in your comment that we withhold your personal identifying information from public review, we cannot guarantee that we will be able to do so.

Authority

We issue this notice pursuant to section 10(c) of the ESA (16 U.S.C. 1531 et seq.) and its implementing regulations (50 CFR 17.22 and 17.32), and the National Environmental Policy Act (42 U.S.C. 4321 et seq.) and its implementing regulations (40 CFR 1506.6 and 43 CFR 46.305).

Stephen Henry,
Field Supervisor, Ventura Fish and Wildlife Office, Ventura, California.

[FR Doc. 2020-13191 Filed 6-18-20; 8:45 am]

BILLING CODE 4333-15-P